DEPARTMENT OF COMMERCE

National Oceanic and Atmospheric Administration

RIN 0648-XC434

Fisheries of the Northeastern United States; Atlantic Mackerel, Squid, and Butterfish Fisheries; Scoping Process; Mid-Atlantic Fishery Management Council; Public Hearings

AGENCY: National Marine Fisheries Service (NMFS), National Oceanic and Atmospheric Administration (NOAA), Commerce.

ACTION: Notice; request for comments.

SUMMARY: The Mid-Atlantic Fishery Management Council (Mid-Atlantic Council) announces its intention to prepare, in cooperation with NMFS, an EIS in accordance with the National Environmental Policy Act to assess potential effects on the human environment of alternative measures to protect deep-sea corals in the Mid-Atlantic region.

This notice announces a public process for determining the scope of issues to be addressed, and for identifying the significant issues related to deep-sea coral protections in the Mid-Atlantic. This notice is to alert the interested public of the scoping process, the development of the Draft EIS, and to provide for public participation in that process. If, during development of the Draft EIS, it can be determined that the alternatives are not expected to have significant impacts on the human environment, an Environmental Assessment (EA) may be prepared in place of an EIS. This determination will depend on the scope of issues raised and the alternatives developed. Information obtained during the scoping process will be used to develop either an EIS or an EA as appropriate. This action is necessary to provide analytical support for an amendment (Amendment 16) to the Fishery Management Plan (FMP) for Atlantic Mackerel, Squid, and Butterfish (MSB), which addresses protections of deep-sea corals from the impacts of fishing gear.

DATES: Written comments must be received on or before 11:59 p.m., EST, on February 15, 2013. Two public scoping meetings will be held during this comment period. See SUPPLEMENTARY INFORMATION for dates, times, and locations.

ADDRESSES: Written comments may be sent by any of the following methods:

• Email to the following address: nmfs.ner.msbam16@noaa.gov;

• Mail or hand deliver to Dr. Christopher M. Moore, Executive Director, Mid-Atlantic Fishery Management Council, 800 North State Street, Suite 201, Dover, DE 19901. Mark the outside of the envelope “Deep Sea Corals Amendment Scoping Comments”; or

• Fax to (302) 674-5399.

The scoping document may also be obtained from the Mid-Atlantic Council office at the previously provided address, or by request to the Mid-Atlantic Council by telephone (302) 674-2331, or via the Internet at http://www.mafmc.org/fmp/msb.htm.

Comments may also be provided verbally at either of the two public scoping meetings. See SUPPLEMENTARY INFORMATION for dates, times, and locations.

FOR FURTHER INFORMATION CONTACT: Dr. Christopher M. Moore, Mid-Atlantic Fishery Management Council, 800 North State Street, Suite 201, Dover, DE 19901, (telephone 302-674-2331).

SUPPLEMENTARY INFORMATION:

Background

The Mid-Atlantic Council has initiated this amendment to minimize the impacts of fishing gear on deep-sea corals within the Council's jurisdiction. The Mid-Atlantic Council and the New England Fishery Management Council (New England Council) have developed a Memorandum of Understanding (MOU) identifying areas of consensus and common strategy related to conservation of corals and mitigation of the negative impacts of fishery/coral interactions. The terms of the MOU include defined areas of jurisdiction for deep-sea coral protection measures, aligning with the Mid-Atlantic and New England Council region boundaries as defined in 50 CFR 600.105.

The New England Council began developing alternatives for deep-sea coral protections as part of their Essential Fish Habitat (EFH) Omnibus Amendment 2, and at their September 2012 meeting, voted to split the range of alternatives pertaining to deep sea corals into a separate omnibus amendment. The Mid-Atlantic Council will develop alternatives applicable to areas south of the inter-council boundary with the New England Council, with the understanding that the New England Council will implement coral-related measures north of this boundary.

At this time, the Mid-Atlantic Council is expected to consider several types of management measures, including, but not limited to:

• No action; no additional measures would be adopted.

• Designation of deep-sea coral protection zones, under the discretionary authority described in section 303(b)(2)(B) of the Magnuson-Stevens Fishery Conservation and Management Act (MSA), where fishing may be restricted in order to protect deep-sea corals from physical damage caused by fishing gear. Such zones would be located within the geographical range of the MSB fishery, as described in the FMP. However, management measures may apply to any MSA-regulated fishing activity within this range. Therefore, any measures pursued under this authority would likely apply to all federally managed fisheries within the geographic range of the MSB fisheries. The geographical range of this fishery includes the coastal and EEZ waters of the U.S. East Coast, with a core fishery management area from North Carolina to Maine.

• Designation of deep-sea corals as a component of EFH or as Habitat Areas of Particular Concern (HAPCs).

• Measures to minimize bycatch of deep-sea coral species.

• Special access programs to provide for continued fishing in or near deep-sea coral areas for specific fisheries or gear types.

• Exploratory fishing programs to allow for future development of new fisheries in a way that protects deep-sea corals.

The Mid-Atlantic Council is seeking comments on the scope of alternatives to be considered in this amendment, as well as general comments or concerns relating to deep-sea coral protections in the mid-Atlantic.

Scoping Meetings

Two scoping meetings to facilitate public comment will be held on the following dates and locations:

1. February 5, 2013, 7-9 p.m., via webinar; connection information to be available at http://www.mafmc.org/meetings/meetings.htm or by contacting the Mid-Atlantic Council (see ADDRESSES);

2. February 13, 2013, 4 p.m., Embassy Suites Hampton Roads, 1700 Coliseum Drive, Hampton, VA 23666.

Special Accommodations

The scoping meetings are accessible to people with disabilities. Requests for sign language interpretation or other auxiliary aid should be directed to M. Jan Saunders (302-674-2331 ext. 18) at least 5 days prior to the meeting date.

Authority: 16 U.S.C. 1801 et seq.

Dated: January 9, 2013.
Emily H. Menashes,
Deputy Director, Office of Sustainable Fisheries, National Marine Fisheries Service.

[FR Doc. 2013-00808 Filed 1-15-13; 8:45 am]

BILLING CODE 3510-22-P